DEPARTMENT OF ENERGY

Federal Energy Regulatory Commission

[Docket No. RP02-166-000]

Florida Gas Transmission Company; Notice of Proposed Changes in FERC Gas Tariff

March 5, 2002.

Take notice that on February 28, 2002, Florida Gas Transmission Company (FGT) tendered for filing to become part of its FERC Gas Tariff, Third Revised Volume No. 1, the following tariff sheets, to be effective April 1, 2002:

Fourth Revised Sheet No. 528

Third Revised Sheet No. 529

Fourth Revised Sheet No. 530

Third Revised Sheet No. 531

Third Revised Sheet No. 532

Fourth Revised Sheet No. 533

Fourth Revised Sheet No. 534

Fourth Revised Sheet No. 535

First Revised Sheet No. 535.01

Third Revised Sheet No. 535A

Third Revised Sheet No. 536

Third Revised Sheet No. 537

Third Revised Sheet No. 538

Original Sheet No. 538A

Original Sheet No. 538B

Original Sheet No. 538C

Original Sheet No. 538D

Third Revised Sheet No. 539

Fourth Revised Sheet No. 540

Fourth Revised Sheet No. 541

Fourth Revised Sheet No. 542

FGT states that on December 1, 1999, in Docket No. CP00-40-000, FGT filed for authorization to expand the capacity of its system in order to provide incremental firm transportation service pursuant to Rate Schedule FTS-2 (Phase V Certificate Application). Included as part of the Phase V Certificate Application were the Phase V shippers' FTS-2 service agreements. FGT further states that in its Preliminary Determination on Nonenvironmental Issues dated November 22, 2000 (“PD”) the Commission noted that these service agreements contained certain variations from the FTS-2 Form of Service Agreement contained in FGT's Tariff. The PD directed FGT “to refile them so that they conform with the FTS-2 Form of Service Agreement in its tariff or to develop a generally applicable FTS-2 Form of Service Agreement to conform with the Phase V agreements.” FGT states that the instant filing includes tariff modifications to its FTS-2 Form of Service Agreement to include expansion provisions which generally conform to the expansion-type service agreements filed with the Phase V Certificate Application, and to make the FTS-2 Form of Service Agreement adaptable for incremental service offered as a result of future capacity expansions by FGT.

FGT states that copies of the filing were mailed to all interested parties and state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5730 Filed 3-8-02; 8:45 am]

BILLING CODE 6717-01-P